DEPARTMENT OF TRANSPORTATION

Surface Transportation Board

49 CFR Part 1002

[STB Ex Parte No. 542 (Sub-No. 4)]

Regulations Governing Fees for Services Performed in Connection With Licensing and Related Services—2002 New Fees; Corrections

AGENCY: Surface Transportation Board, Transportation.

ACTION: Correcting amendments.

SUMMARY: The Surface Transportation Board published a document in the Federal Register on March 29, 2004 (69 FR 16173), amending the Board's fee regulations. The document inadvertently failed to: (1) Use correct terms of art to describe the fee item at section 1002.2(f)(56)(v); and (2) include all of the technical editing instructions needed by Federal Register staff to accurately revise sections 1002.2(f)(98), (100), and (101). This document corrects the final rules by revising these sections.

DATES: Effective Date: These rules are effective on August 25, 2004.

FOR FURTHER INFORMATION CONTACT: David T. Groves, (202) 565-1551, or Anne Quinlan, (202) 565-1727. [Assistance for the hearing impaired is available through the Federal Information Relay Service (FIRS) at 1-800-877-8339.]

SUPPLEMENTARY INFORMATION: These corrections amend the Board's fee regulations.

List of Subjects in 49 CFR Part 1002

Administrative practice and procedure, Common carriers, Freedom of information, User fees.

49 CFR part 1002 is corrected by making the following correcting amendments:

PART 1002—FEES

1. The authority citation for part 1002 continues to read as follows:

Authority: 5 U.S.C. 552(a)(4)(A) and 553; 31 U.S.C. 9701 and 49 U.S.C. 721(a).

2. In § 1002.2(f), sections (56), (98), (100) and (101) are revised as follows:

§ 1002.2 Filing fees.

* * * * *

(f) * * *

(56) A formal complaint alleging unlawful rates or practices of carriers:
(i) A formal complaint filed under the coal rate guidelines (Stand-Alone Cost Methodology) alleging unlawful rates and/or practices of rail carriers under 49 U.S.C. 10704(c)(1) | $62,100
(ii) A formal complaint involving rail maximum rates filed under the small rate case procedures | 150
(iii) All other formal complaints (except competitive access complaints) | 6,100
(iv) Competitive access complaints | 150
(v) A request for an order compelling a rail carrier to establish a common carrier rate | 200
* * * * * * *
(98) Processing the paperwork related to a request for the Carload Waybill Sample to be used in a Surface Transportation Board or State proceeding that:
(i) Does not require a Federal Register notice:
(a) Set cost portion | 100
(b) Sliding cost portion | ¹ 32
(ii) Does require a Federal Register notice:
(a) Set cost portion | 300
(b) Sliding cost portion | ¹ 32
* * * * * * *
(100) Uniform Railroad Costing System (URCS) software and information:
(i) Initial PC version URCS Phase III software program and manual | 50
(ii) Updated URCS PC version Phase III cost file—per year | ² 25
(iii) Public requests for Source Codes to the PC version URCS Phase III | 100
(101) Carload Waybill Sample data on recordable compact disk (R-CD):
(i) Requests for Public Use File on R-CD—per year | ² 250
(ii) Waybill—Surface Transportation Board or State proceedings on R-CD—per year | ² 500
(iii) User Guide for latest available Carload Waybill Sample | 50
(iv) Specialized programming for Waybill requests to the Board | ³ 76
* * * * * * *
¹ Per party.
² Per year.
³ Per hour.

Decided: August 18, 2004.
By the Board, Vernon A. Williams, Secretary.
Vernon A. Williams,
Secretary.

[FR Doc. 04-19449 Filed 8-24-04; 8:45 am]

BILLING CODE 4915-01-P